POSTAL SERVICE

Sunshine Act Meeting; Notification of Item Added to Meeting Agenda; Board of Governors

Date of Meeting: June 15, 2004.

Status: Closed.

Previous Announcement: 69 FR 31647, June 4, 2004.

Addition: Proposed Filing with the Postal Rate Commission for Repositionable Notes (RPNs) Pricing Experiment.

At its closed meeting on June 15, 2004, the Board of Governors of the United States Postal Service voted unanimously to add this item to the agenda of its closed meeting and that no earlier announcement was possible. The General Counsel of the United States Postal Service certified that in her opinion discussion of this item could be properly closed to public observation.

FOR FURTHER INFORMATION CONTACT: William T. Johnstone, Secretary of the Board, U.S. Postal Service, 475 L'Enfant Plaza, SW., Washington, DC 20260-1000.

William T. Johnstone,
Secretary.

[FR Doc. 04-14516 Filed 6-22-04; 3:09 pm]

BILLING CODE 7710-12-M